DEPARTMENT OF THE INTERIOR

Bureau of Land Management

[ID-090-1020XQ]

Notice of Meeting

AGENCY: Lower Snake River District, Bureau of Land Management, Interior.

ACTION: Meeting Notice.

SUMMARY: The Lower Snake River District Resource Advisory Council will meet in Boise. Potential agenda topics are Off-Highway Motor Vehicle Funds, Fire Management and Restoration Workplan, Revised Priorities for Allotment Assessment, Conservation planning for Slickspot Peppergrass (lepidium papilliferum) and other resource management issues.

DATES: November 13, 2000. The meeting will begin at 9 a.m. Public comment period will be held at 9:30 a.m.

ADDRESSES: The meeting will be held at the Lower Snake River District Office, located at 3948 Development Avenue, Boise, Idaho.

FOR FURTHER INFORMATION CONTACT: Mary Jones, Lower Snake River District Office (208-384-3305).

Katherine Kitchell,
District Manager.

[FR Doc. 00-27506 Filed 10-25-00; 8:45 am]

BILLING CODE 4310-84-P